NUCLEAR REGULATORY COMMISSION

[Docket Nos. 50-247 and 50-286]

License Nos. DPR-26 and DPR-64; Entergy Nuclear Operations, Inc.; Entergy Nuclear Indian Point 2, LLC; Entergy Nuclear Indian Point 3, LLC; Notice of Issuance of Director's Decision Under 10 CFR 2.206

Notice is hereby given that the Director, Office of Nuclear Reactor Regulation, U.S. Nuclear Regulatory Commission (NRC or Commission) has issued a Director's Decision with regard to a petition dated June 25, 2007, filed by Mr. Sherwood Martinelli on behalf of Friends United for Sustainable Energy (FUSE), hereinafter referred to as the “Petitioner.” The petition was supplemented on December 21, 2007, with a transcript of a meeting between the NRC and the Petitioner. The petition concerns the operation of the Indian Point Nuclear Generating Unit Nos. 2 and 3 (Indian Point) owned by Entergy Nuclear Indian Point 2, LLC and Entergy Nuclear Indian Point 3, LLC, respectively, and operated by Entergy Nuclear Operations, Inc. (Entergy).

The petition requested immediate suspension of the operating licenses for Indian Point Unit Nos. 2 and 3 until the licensee resolves the issues described in the petition to full compliance with all local, State, and Federal laws.

As the basis for the June 25, 2007 request, the Petitioner raised concerns stemming from the spent fuel pool (SFP) leakage discovered at Indian Point in September of 2005. Mr. Martinelli considers such operation to be potentially unsafe and to be in violation of Federal regulations. In the petition, the Petitioner cited a number of references to possible consequences from radionuclide leakage from the SFP that the Petitioner believes prohibit safe operation of the facility.

The petition of June 25, 2007, raises concerns originating from the SFP leakage at Indian Point which was reported by Entergy to the NRC in September of 2005. The Petitioner stated that since Entergy has been unable to locate the source of the SFP leakage, they are unable to repair the leak. In turn, the Petitioner argued that the effect on the environment is increasing and the structural integrity of the SFP will worsen and contribute to the decline of plant stability and integrity.

On December 21, 2007, the Petitioner and the licensee met with the staff's Petition Review Board. The meeting gave the Petitioner and the licensee an opportunity to provide additional information and to clarify issues cited in the petition.

The NRC sent a copy of the Proposed Director's Decision to the Petitioner and to Entergy for comment on May 30, 2008. The staff did not receive any comments on the Proposed Director's Decision.

The Director of the Office of Nuclear Reactor Regulation denied the request to suspend the Indian Point Generating Unit Nos. 2 and 3 operating licenses. The reasons for this decision are explained in the Director's Decision pursuant to Title 10 of Code of Federal Regulations (10 CFR) Section 2.206 [DD-08-02], the complete text of which is available in Agencywide Documents Access and Management System (ADAMS) Accession No. ML082060642 for inspection at the Commission's Public Document Room, located at One White Flint North, Public File Area O1 F21, 11555 Rockville Pike (first floor), Rockville, Maryland, and from the ADAMS Public Library component on the NRC's Web site, http://www.nrc.gov/reading-rm.html (the Public Electronic Reading Room).

The NRC denied the petition based on conclusions reached by Entergy investigations and NRC inspection efforts which determined that public health and safety have not been, nor are likely to be, adversely affected. Additionally, the dose consequence to the public attributable to current onsite conditions associated with groundwater contamination is negligible with respect to conservatively established NRC regulatory limits.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the director's decision in that time.

Dated at Rockville, Maryland, this 14th day of August 2008.
For the Nuclear Regulatory Commission.
Eric J. Leeds,
Director, Office of Nuclear Reactor Regulation.

[FR Doc. E8-19374 Filed 8-20-08; 8:45 am]

BILLING CODE 7590-01-P